DEPARTMENT OF HEALTH AND HUMAN SERVICES

Centers for Disease Control and Prevention

[Program Announcement 02223]

The Effect of Trichomonas vaginalis Infection on Vaginal Virus Loads Among HIV-Infected Women—Tulane University Health Sciences Center; Notice of Award of Funds

A. Purpose

The Centers for Disease Control and Prevention (CDC) announces the award of fiscal year (FY) 2002 funds for a grant program, “The Effect of Trichomonas vaginalis Infection on Vaginal Virus Loads among HIV-Infected Women” to be performed by Tulane University Health Sciences Center, School of Public Health and Tropical Medicine.

Detection and treatment of Trichomonas vaginalis (T. vaginalis) among HIV-infected women may be an important public health strategy in reducing the spread of HIV infection. This is of profound public health importance, as it would advance medical knowledge in the relationship between T. vaginalis (the most common non-viral STD among HIV-infected women) and vaginal shedding of the HIV virus.

The study may lead to a determination of whether or not the effective treatment of T. vaginalis would result in a reduction in the spread of HIV. This study falls under the public health initiative Human Immunodeficiency Virus (HIV) Prevention.

B. Eligible Applicant

Assistance is provided only to Tulane University Health Sciences Center, School of Public Health and Tropical Medicine. Tulane's application contained an important and unique scientific proposal that was not submitted in response to any existing program announcement, but does fall under the embrace of the Government's public health initiative Human Immunodeficiency Virus (HIV) Prevention. The research team at Tulane has a strong background in conducting similar studies. They are the largest provider of care to women co-infected with HIV and T. vaginalis in the gulf south region. They have the research, clinical, and laboratory expertise needed to conduct such a study. The CDC Division of Sexually Transmitted Disease Prevention (DSTD) performed a thorough review of Tulane's proposal and determined that it would significantly advance the state of medical knowledge, and provide a unique contribution to the understanding of T. vaginalis and HIV infectivity.

C. Funds

Approximately $149,979 is being awarded in FY 2002. The award will begin on or about September 15, 2002, and will be made for a 24-month budget period within a project period of two years.

D. Where To Obtain Additional Information

Business management technical assistance may be obtained from: William J. Ryan, Jr., Grants Management Officer, Procurement and Grants Office, Centers for Disease Control and Prevention, 2920 Brandywine Road, Room 3000, Atlanta, GA 30341-4146, Telephone number 770-488-2717, e-mail address: wfr4@cdc.gov.

For program technical assistance, contact: Emily Koumans, MD, Division of STD Prevention, Centers for Disease Control and Prevention, NCHSTP/DSTD, 10 Corporate Square Blvd, Atlanta, GA 30329, Telephone number 404-639-8870, e-mail address: svs5@cdc.gov.

Dated: August 13, 2002.
Sandra R. Manning,
Director, Procurement and Grants Office, Centers for Disease Control and Prevention.

[FR Doc. 02-21080 Filed 8-19-02; 8:45 am]

BILLING CODE 4163-18-P